DEPARTMENT OF THE INTERIOR

Bureau of Indian Affairs

25 CFR Parts 30, 37, 39, 42, 44, 47

RIN 1076-AE49

Home-living Programs and School Closure and Consolidation

AGENCY: Bureau of Indian Affairs, Interior.

ACTION: Proposed rule; reopening of comment period.

SUMMARY: As required by the No Child Left Behind Act of 2001, the Secretary of the Interior has developed proposed regulations using negotiated rulemaking that address the following issues: Defining adequate yearly progress, which is the measurement for determining that schools are providing quality education; establishing separate geographic attendance areas for Bureau-funded schools; establishing a formula for determining the minimum amount necessary to fund Bureau-funded schools; establishing a system of direct funding and support of all Bureau-funded schools under the formula established in the Act; establishing guidelines to ensure the Constitutional and civil rights of Indian students; and establishing a method for administering grants to tribally controlled schools. The Secretary is reopening the comment period for 10 days to allow submission of comments by the Department of Education and other interested parties.

DATES: Comments are due by the close of business on August 2, 2004.

ADDRESSES: You may submit comments, identified by the number 1076-AE51, by any of the following methods:

Direct Internet response: http://www.blm.gov/nhp/news/regulatory/index.html, or at http://www.blm.gov, or at regulations.gov under Indian Affairs Bureau.

Mail: Director (630), Bureau of Land Management, Eastern States Office, 7450 Boston Boulevard, Springfield, Virginia 22153, Attention: RIN 1076-AE51.

Hand delivery: 1620 L Street NW., Room 401, Washington, DC 20036.

FOR FURTHER INFORMATION CONTACT: Catherine Freels, Designated Federal Official, PO Box 1430, Albuquerque, NM 87103-1430; Phone: 505-248-7240; e-mail: cfreels@bia.edu.

SUPPLEMENTARY INFORMATION: The Department of the Interior published proposed rules on February 25, 2004 (69 FR 8751), that address the following issues: (1) Defining adequate yearly progress, which is the measurement for determining that schools are providing quality education; (2) establishing separate geographic attendance areas for Bureau-funded schools; (3) establishing a formula for determining the minimum amount necessary to fund Bureau-funded schools; (4) establishing a system of direct funding and support of all Bureau-funded schools under the formula established in the Act; (5) establishing guidelines to ensure the Constitutional and civil rights of Indian students; and (6) establishing a method for administering grants to tribally controlled schools. We published these rules to implement part of the requirements of the No Child Left Behind Act (Pub. L. 107-110; enacted January 8, 2002). The comment period for the proposed rules ended on June 24, 2004. Since then, we have learned that the Department of Education has developed comments on the rules. In order to allow time for the Department of Education and any other interested parties to submit comments for consideration during development of the final rules, we are reopening the comment period for 10 days. During this period we will accept comments on any aspect of the rules from any interested parties.

Although these rules are published by the Bureau of Indian Affairs (BIA), the Bureau of Land Management is processing comments under agreement with BIA. If you wish to comment on these proposed rules, you may submit your comments by any one of several methods:

(1) You may mail comments to Director (630), Bureau of Land Management, Eastern States Office, 7450 Boston Boulevard, Springfield, Virginia 22153, Attention: RIN 1076-AE51.

(2) You may submit comments electronically by direct Internet response to either http://www.blm.gov/nhp/news/regulatory/index.html, or http://www.blm.gov, or at regulations.gov under Indian Affairs Bureau.

(3) You may hand-deliver comments to 1620 L Street, NW., Room 401, Washington, DC 20036.

Our practice is to make comments, including names and home addresses of respondents, available for public review during regular business hours. Individual respondents may request that we withhold their home address from the rulemaking record. We will honor the request to the extent allowable by law. There may be circumstances in which we would withhold from the rulemaking record a respondent's identity, as allowable by law. If you wish us to withhold your name and/or address, you must state this prominently at the beginning of your comment. However, we will not consider anonymous comments. We will make all submissions from organizations or businesses, and from individuals identifying themselves as representatives or officials of organizations or businesses, available for public inspection in their entirety.

Dated: July 16, 2004.
David W. Anderson,
Assistant Secretary—Indian Affairs.

[FR Doc. 04-16658 Filed 7-19-04; 10:58 am]

BILLING CODE 4310-6W-P